ENVIRONMENTAL PROTECTION AGENCY

[EPA-HQ-OAR-2017-0357; FRL-12644-01-OMS]

Agency Information Collection Activities; Submission to the Office of Management and Budget for Review and Approval; Comment Request; NESHAP for Ethylene and Spandex (Renewal)

AGENCY: Environmental Protection Agency (EPA).

ACTION: Notice.

SUMMARY: The Environmental Protection Agency (EPA) has submitted an information collection request (ICR), NESHAP for Ethylene and Spandex (EPA ICR Number 1983.11, OMB Control Number 2060-0489) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2017-0357, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for the regulations published at 40 CFR part 63, subpart YY were promulgated on July 12, 2002 (67 FR 46257), and amended on April 13, 2005 (70 FR 19266), July 6, 2020 (85 FR 40386), and November 19, 2020 (85 FR 73854). These regulations apply to existing and new carbon black, cyanide, ethylene, and spandex facilities that would be subject to the major source provisions specified under the Generic Maximum Achievable Control Technology (GMACT) NESHAP. A Risk and Technology Review (RTR) for ethylene production was proposed on October 9, 2019 and promulgated on July 6, 2020 (85 FR 40386). The RTR amendments to the ethylene production regulations corrected and clarified regulatory provisions related to emissions during periods of startup, shutdown, and malfunction; added requirements for electronic reporting of performance test results; added operational requirements for flares; added standards and monitoring requirements for pressure relief devices (PRDs); added requirements and clarifications for vent control bypasses, including bypass lines, in situ sampling systems, maintenance activities, and certain gaseous streams routed to a fuel gas system; added requirements for storage vessel degassing; and revised requirements for heat exchange systems. An RTR amendment for carbon black production (OMB Number 2060-0738, EPA ICR Number 2677.02) was finalized on November 19, 2021 (86 FR 66096) and an RTR amendment for cyanide production (OMB Number 2060-0739, EPA ICR Number 2678.02) was finalized on November 19, 2021 (86 FR 66096). The burden for these requirements is not included in this renewal. New facilities include those that commenced construction or reconstruction after the date of proposal. This information is being collected to assure compliance with 40 CFR part 63, subpart YY for ethylene and spandex production facilities. NESHAP standards require initial notifications, performance tests, and periodic reports by the owners/operators of the affected facilities. They must also maintain records of the occurrence and duration of any startup, shutdown, or malfunction in the operation of an affected facility or any period during which the monitoring system is inoperative. These notifications, reports, and records are essential in determining compliance, and are required of all affected facilities subject to NESHAP.

Form Numbers: None.

Respondents/affected entities: Ethylene and spandex production facilities.

Respondent's obligation to respond: Mandatory (40 CFR part 63, subpart YY).

Estimated number of respondents: 34 (total).

Frequency of response: Semiannually.

Total estimated burden: 29,438 hours (per year). Burden is defined at 5 CFR 1320.03(b).

Total estimated cost: $15,100,000 (per year), which includes $11,400,000 annualized capital or operation & maintenance costs.

Changes in the estimates: There is a decrease of 20,862 hours in the total estimated respondent burden compared with the ICR currently approved by OMB. This decrease is due to an adjustment(s). The adjustment decrease in burden from the most recently approved ICR is due to a decrease in the number of sources. While previous renewals included sources manufacturing carbon black and sources manufacturing cyanide, an RTR amendment for carbon black production (OMB Number 2060-0738, EPA ICR Number 2677.02) was finalized on November 19, 2021 (86 FR 66096) and an RTR amendment for cyanide production (OMB Number 2060-0739, EPA ICR Number 2678.02) was finalized on November 19, 2021 (86 FR 66096). Now that these two subcategories are covered under separate ICRs, the burden for these requirements is not included in this renewal. Additionally, an RTR for ethylene production was finalized on July 6, 2020 (85 FR 40386). These requirements have been included in the burden calculations. While overall burden decreased, Capital/Startup and O&M costs have increased due to the additional requirements finalized for sources manufacturing ethylene.

Courtney Kerwin,
Director, Information Engagement Division.

[FR Doc. 2025-03314 Filed 2-27-25; 8:45 am]

BILLING CODE 6560-50-P